DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than April 4, 2016.

Interested persons are invited to submit written comments regarding the subject matter of the investigations to the Director, Office of Trade Adjustment Assistance, at the address shown below, not later than April 4, 2016.

The petitions filed in this case are available for inspection at the Office of the Director, Office of Trade Adjustment Assistance, Employment and Training Administration, U.S. Department of Labor, Room N-5428, 200 Constitution Avenue NW., Washington, DC 20210.

Signed at Washington, DC this 7th day of March 2016.
Jessica R. Webster,
Certifying Officer, Office of Trade Adjustment Assistance.

Appendix

81 TAA Petitions Instituted Between 2/8/16 and 2/26/16
TA-W | Subject firm (petitioners) | Location | Date of institution | Date of petition
91442 | Sulzer Pumps (US) Inc. (Company) | Brookshire, TX | 02/08/16 | 02/05/16
91443 | Select Energy Services, Cambridge, Ohio Truck Yard (Workers) | Gainesville, TX | 02/08/16 | 02/05/16
91444 | Johnson Matthey Process Technologies, Inc. (Workers) | Savannah, GA | 02/08/16 | 02/08/16
91445 | Fenner Dunlop, Inc. (Union) | Port Clinton, OH | 02/09/16 | 01/19/16
91446 | Hologic (Company) | Bedford, MA | 02/09/16 | 02/08/16
91447 | National OilWell Varco-Hydra Rig (Workers) | Duncan, OK | 02/09/16 | 02/08/16
91448 | Allegheny Technologies Incorporated (Union) | Louisville, OH | 02/10/16 | 02/09/16
91449 | Digital Intelligence Systems (State/One-Stop) | Pittsfield, ME | 02/10/16 | 02/09/16
91450 | Supervalu Inc. (Workers) | Boise, ID | 02/10/16 | 02/09/16
91451 | Metro Paper Industries (State/One-Stop) | Carthage, NY | 02/10/16 | 02/09/16
91452 | EOG Resources Inc. (State/One-Stop) | Oklahoma City, OK | 02/10/16 | 02/10/16
91453 | Rexnord LLC (State/One-Stop) | Clinton, TN | 02/11/16 | 02/10/16
91454 | Allegheny Technologies Incorporated (Union) | Latrobe, PA | 02/11/16 | 02/09/16
91455 | Nitro Lift Tech Inc. (State/One-Stop) | Mill Creek, OK | 02/11/16 | 02/10/16
91456 | Eaton Corporation (Company) | Shenandoah, IA | 02/11/16 | 02/10/16
91457 | Allegheny Technologies Incorporated (Union) | Houston, PA | 02/12/16 | 02/10/16
91458 | Siemens Energy Inc. (Company) | Mount Vernon, OH | 02/12/16 | 02/08/16
91459 | The Doe Run Resources Corporation (State/One-Stop) | St. Louis, MO | 02/12/16 | 02/10/16
91460 | Cascade Steel Rolling Mills (Union) | McMinnville, OR | 02/12/16 | 02/11/16
91461 | Sprint Wireless Call Center (State/One-Stop) | Temple, TX | 02/12/16 | 02/12/16
91462 | Sprint, Headset Retrieval Team (Workers) | Rio Rancho, NM | 02/16/16 | 02/12/16
91463 | Volvo Trucks (Union) | Dublin, VA | 02/16/16 | 02/12/16
91464 | Rodgers Instruments Corporation (State/One-Stop) | Hillsboro, OR | 02/16/16 | 02/12/16
91465 | Traeger Wood Fired Grills (State/One-Stop) | Portland, OR | 02/16/16 | 02/12/16
91466 | Allegheny Technologies Incorporated (Union) | New Bedford, MA | 02/16/16 | 02/12/16
91467 | Allegheny Technologies Incorporated (Union) | Natrona Heights, PA | 02/16/16 | 02/15/16
91468 | Allegheny Technologies Incorporated (Union) | Vandergrift, PA | 02/16/16 | 02/15/16
91469 | Hermitage Wood Products, Inc. (Company) | Pompano Beach, FL | 02/16/16 | 02/12/16
91470 | Titan Tire Corporation (Union) | Freeport, IL | 02/17/16 | 02/12/16
91471 | Flowserve (Union) | Dayton, OH | 02/17/16 | 02/16/16
91472 | Freeport-McMoRan Miami, Inc. (Company) | Claypool, AZ | 02/17/16 | 02/16/16
91473 | Kraft Foods Group Global, Inc. (State/One-Stop) | Woburn, MA | 02/17/16 | 02/16/16
91474 | Lee Aerospace (State/One-Stop) | Wichita, KS | 02/17/16 | 02/16/16
91475 | Sprint (Workers) | Blountville, TN | 02/17/16 | 02/16/16
91476 | Pall Corporation (State/One-Stop) | Port Washington, NY | 02/17/16 | 02/16/16
91477 | X6D USA/X6D Ltd./XPAND (State/One-Stop) | Beaverton, OR | 02/18/16 | 02/17/16
91478 | Climax Molybdenum Company (Henderson Mill and Mine) (Company) | Empire, CO | 02/18/16 | 02/17/16
91479 | Clover Technologies Group (Company) | Erie, PA | 02/18/16 | 02/17/16
91480 | Wells Fargo Home Mortgage (State/One-Stop) | Portland, OR | 02/19/16 | 02/17/16
91481 | Banks Lumber Company (State/One-Stop) | Banks, OR | 02/19/16 | 02/17/16
91482 | Panasonic Eco Solutions Solar America, LLC (State/One-Stop) | Salem, OR | 02/19/16 | 02/18/16
91483 | Sprint (State/One-Stop) | Hampton, VA | 02/19/16 | 02/19/16
91484 | Vitron Acquisition LLC (Company) | Phoenix, AZ | 02/19/16 | 02/18/16
91485 | Sensata Technologies (formerly known as Schrader Electronics (Company) | Springfield, TN | 02/19/16 | 02/18/16
91486 | Damper Design (Workers) | Bethlehem, PA | 02/19/16 | 02/18/16
91487 | Rex Energy Corp (Company) | Bridgeport, IL | 02/19/16 | 02/18/16
91488 | Montgomery County Developmental Center (State/One-Stop) | Huber Heights, OH | 02/19/16 | 02/18/16
91489 | Teletech (State/One-Stop) | Springfield, MO | 02/19/16 | 02/18/16
91490 | Sprint (Workers) | Blountville, TN | 02/19/16 | 02/18/16
91491 | Alcoa Inc. (Union) | Newburgh, IN | 02/22/16 | 02/05/16
91492 | mGage LLC-previously Mobile Americas, Network Operations Center (State/One-Stop) | Los Angeles, CA | 02/22/16 | 02/19/16
91493 | Matric Limited (Company) | Seneca, PA | 02/22/16 | 02/19/16
91494 | Thorco Industries (State/One-Stop) | Lamar, MO | 02/22/16 | 02/19/16
91495 | Molycorp (Workers) | Mountain Pass, CA | 02/22/16 | 02/19/16
91496 | Rough & Ready Lumber LLC (Company) | Cave Junction, OR | 02/22/16 | 02/19/16
91497 | Caldwell Manufacturing Company (Workers) | Alderson, WV | 02/22/16 | 02/18/16
91498 | Columbia Pacific Bio-Refinery (State/One-Stop) | Clatskanie, OR | 02/22/16 | 02/19/16
91499 | Saginaw Machine Systems (Company) | Saginaw, MI | 02/23/16 | 02/22/16
91500 | Orica USA (Workers) | Georgetown, KY | 02/23/16 | 02/22/16
91501 | Lumina Datamatics (Company) | Harrisburg, PA | 02/23/16 | 02/22/16
91502 | Eaton Corporation (Company) | Berea, OH | 02/23/16 | 02/22/16
91503 | Heil Trailer International, Co. (Company) | Rhome, TX | 02/23/16 | 02/22/16
91504 | Atwood Oceanics Management (State/One-Stop) | Houston, TX | 02/23/16 | 02/23/16
91505 | Walgreens Co (Workers) | Lincolnshire, IL | 02/24/16 | 02/01/16
91506 | Evergreen Manufacturing Group, LLC (Company) | Madawaska, ME | 02/24/16 | 02/24/16
91507 | Seneca Foods Corporation (Company) | Buhl, ID | 02/24/16 | 02/09/16
91508 | Dematic Corporation (Union) | Grand Rapids, MI | 02/24/16 | 02/16/16
91509 | Rodney Hunt—Fontaine Inc. (State/One-Stop) | Orange, MA | 02/24/16 | 02/24/16
91510 | ArcelorMittal—Conshohocken (Union) | Conshohocken, PA | 02/25/16 | 02/04/16
91511 | Technicolor Home Entertainment Services, Inc. (State/One-Stop) | Olyphant, PA | 02/25/16 | 02/24/16
91512 | Jay A Apparel Group LLC (State/One-Stop) | Vernon, CA | 02/25/16 | 02/24/16
91513 | Ball Corporation (Union) | Bristo, VA | 02/25/16 | 02/24/16
91514 | Royal Bank of Scotland eChannels & Delivery Team within Global Transaction (State/One-Stop) | Chicago, IL | 02/25/16 | 02/24/16
91515 | Sprint, Finance-Commissions/Shared Services (State/One-Stop) | Overland Park, KS | 02/25/16 | 02/24/16
91516 | International Business Machines (IBM) (State/One-Stop) | Poughkeepsie, NY | 02/26/16 | 02/25/16
91517 | Encore Repair Services, LLC (Workers) | Simi Valley, CA | 02/26/16 | 02/03/16
91518 | SABIC (Company) | Thorndale, PA | 02/26/16 | 02/25/16
91519 | National Oilwell Varco (State/One-Stop) | Houma, LA | 02/26/16 | 02/25/16
91520 | Flex formerly Flextronics (Company) | Charlotte, NC | 02/26/16 | 02/25/16
91521 | Digital Intelligence Systems LLC (Workers) | McLean, VA | 02/26/16 | 02/23/16
91522 | Primemetals Technologies USA LLC (State/One-Stop) | Worchester, MA | 02/26/16 | 02/10/16

[FR Doc. 2016-06615 Filed 3-23-16; 8:45 am]

BILLING CODE 4510-FN-P